DEPARTMENT OF AGRICULTURE

Natural Resource Conservation Service

Canon City C-4 Dam Repair Project; Fremont County, CO

AGENCY: Natural Resource Conservation Service, USDA.

ACTION: Notice of a Finding of No Significant Impact.

SUMMARY: Pursuant to Section 102(2)(c) of the National Environmental Policy Act of 1969; the Council on environmental Quality Regulations (40 CFR Part 1500); and the Natural Resource Conservation Service Regulations (7 CFR Part 650); the Natural Resource Conservation Service, U.S. Department of Agriculture, gives notice that an environmental impact statement is not being prepared for the Canon City C-4 Dam Repair Project, Fremont County, Colorado.

FOR FURTHER INFORMATION CONTACT: Allen Green, Colorado State Conservationist, Natural Resource Conservation Service, 655 Parfet St., Lakewood, Colorado, 80215-5517, telephone (720) 544-2810.

SUPPLEMENTARY INFORMATION: The environmental assessment of this federally assisted action documents that the project will not cause significant local, regional, or national impacts on the human environment. The findings of Allen Green, State Conservationist, indicate that the preparation and review of an environmental impact statement is not needed for this project.

The project purpose is to restore the integrity of the C-4 Canon City watershed protection dam to the safety provided by the originally installed condition. The planned work consists of removing a portion of the upstream embankment slope to permit installation of a sloping filter consisting of imported aggregates and geotextile. Existing cracks and voids will be filled with fine aggregate to the extent feasible, and the embankment will be restored to its original line and grade using the soil removed from the upstream slope. These repairs meet current standards & specifications for dam safety and design.

This Notice of a Finding of No Significant Impact (FONSI) has been forwarded to the Environmental Protection Agency and to various Federal, State and Local agencies and interested parties. Copies of the FONSI and Plan/Environmental Assessment are available by request from Allen Green, Colorado State Conservationist. Basic data developed during the environmental evaluation are on file and may be reviewed by contacting Allen Green, State Conservationist.

No administrative action on implementation of this project will be taken until 30 days after the date this Notice is published in the Federal Register.

(This activity is listed in the Catalog of Federal Domestic Assistance under No. 10904 Watershed Protection and Flood Prevention.)

Leroy Hall,
Acting State Conservationist.

[FR Doc. 05-15928 Filed 8-10-05; 8:45 am]

BILLING CODE 3410-16-P